DEPARTMENT OF THE INTERIOR

National Park Service

[NPS-WASO-NAGPRA-NPS0038925; PPWOCRADN0-PCU00RP14.R50000]

Notice of Inventory Completion: Los Rios Community College District, Sacramento, CA

AGENCY: National Park Service, Interior.

ACTION: Notice.

SUMMARY: In accordance with the Native American Graves Protection and Repatriation Act (NAGPRA), the Los Rios Community College District (LRCCD) has completed an inventory of human remains and an associated funerary object and has determined that there is a cultural affiliation between the human remains and associated funerary object and Indian Tribes or Native Hawaiian organizations in this notice.

DATES: Repatriation of the human remains and associated funerary object in this notice may occur on or after November 21, 2024.

ADDRESSES: Jamey Nye, Los Rios Community College District, 1919 Spanos Ct, Arden-Arcade, CA 95825, telephone (916) 568-3031, email nagpra@losrios.edu.

SUPPLEMENTARY INFORMATION: This notice is published as part of the National Park Service's administrative responsibilities under NAGPRA. The determinations in this notice are the sole responsibility of LRCCD, and additional information on the determinations in this notice, including the results of consultation, can be found in the inventory or related records. The National Park Service is not responsible for the determinations in this notice.

Abstract of Information Available

Based on the information available, one associated funerary object that was removed from Allen or Allyn Mound (CA-SAC-96), Sacramento County, CA has been identified. The associated funerary object was likely removed by Robert F. Heizer sometime in 1949 or 1950. Heizer was a previous student who worked closely with Jeremiah B. Lillard at Sacramento Junior College, now Sacramento City College, one of four campuses within the Los Rios Community College District.

Based on the information available, human remains representing, at least, one individual have been reasonably identified. The individual was removed from Morse Mound (CA-SAC-66), Sacramento County, CA, in January of 1938 by Sacramento Junior College under the direction of Jeremiah B. Lillard. Sacramento Junior College, now named Sacramento City College (SCC), is one of four campuses within the Los Rios Community College District. The individual was located in the SCC Biology Department during an audit of all campus collections in January 2024. No associated funerary objects present.

Cultural Affiliation

Based on the information available and the results of consultation, cultural affiliation is clearly identified by the information available about the human remains and associated funerary object described in this notice.

Determinations

LRCCD has determined that:

• The human remains described in this notice represent the physical remains of one individual of Native American ancestry.

• The one object described in this notice is reasonably believed to have been placed intentionally with or near individual human remains at the time of death or later as part of the death rite or ceremony.

• There is a reasonable connection between the associated funerary object described in this notice and the Buena Vista Rancheria of Me-wuk Indians of California; California Valley Miwok Tribe, California; Chicken Ranch Rancheria of Me-Wuk Indians of California; Ione Band of Miwok Indians of California; Jackson Band of Miwuk Indians; Shingle Springs Band of Miwok Indians, Shingle Springs Rancheria (Verona Tract), California; Tuolumne Band of Me-Wuk Indians of the Tuolumne Rancheria of California; United Auburn Indian Community of the Auburn Rancheria of California; and the Wilton Rancheria, California.

Requests for Repatriation

Written requests for repatriation of the human remains and associated funerary object in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary object in this notice to a requestor may occur on or after November 21, 2024. If competing requests for repatriation are received, LRCCD must determine the most appropriate requestor prior to repatriation. Requests for joint repatriation of the human remains and associated funerary object are considered a single request and not competing requests. LRCCD is responsible for sending a copy of this notice to the Indian Tribes and Native Hawaiian organizations identified in this notice.

Authority: Native American Graves Protection and Repatriation Act, 25 U.S.C. 3003, and the implementing regulations, 43 CFR 10.10.

Dated: October 11, 2024.
Melanie O'Brien,
Manager, National NAGPRA Program.

[FR Doc. 2024-24418 Filed 10-21-24; 8:45 am]

BILLING CODE 4312-52-P